DEPARTMENT OF COMMERCE

National Oceanic and Atmospheric Administration

[RTID 0648-XA796]

Pacific Fishery Management Council; Public Meetings

AGENCY: National Marine Fisheries Service, National Oceanic and Atmospheric Administration, Commerce.

ACTION: Notice of public meetings.

SUMMARY: The Pacific Fishery Management Council (Pacific Council) and its advisory entities will hold online public meetings.

DATES: The Pacific Council and its advisory entities will meet online March 2-5 and 8-11, 2021, noting there will be no meetings Saturday, March 6 and Sunday, March 7, 2021. The Pacific Council meeting will begin on Thursday, March 4, 2021 at 8 a.m. Pacific Standard Time (PST), reconvening at 8 a.m. Friday, March 5 and Monday, March 8, each day through Thursday, March 11, 2021. All meetings are open to the public, except a Closed Session will be held from 8 a.m. to 9 a.m., Thursday, March 4, to address litigation and personnel matters. The Pacific Council will meet as late as necessary each day to complete its scheduled business.

ADDRESSES: Meetings of the Pacific Council and its advisory entities will be webinar only.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, www.pcouncil.org for the proposed agenda and meeting briefing materials.

SUPPLEMENTARY INFORMATION: The March 4-5 and 8-11, 2021 meeting of the Pacific Council will be streamed live on the internet. The broadcasts begin initially at 9 a.m. PST Thursday, March 4, 2021 and continue at 8 a.m. Friday, March 5, and Monday, March 8 daily through Thursday, March 11. No meetings are scheduled for Saturday, March 6 through Sunday, March 7, 2021. Broadcasts end when business for the day is complete. Only the audio portion and presentations displayed on the screen at the Pacific Council meeting will be broadcast. The audio portion for the public is listen-only except that an opportunity for oral public comment will be provided prior to Council Action on each agenda item. You can attend the webinar online using a computer, tablet, or smart phone, using the webinar application. Specific meeting information, including directions on how to join the meeting and system requirements will be provided in the meeting announcement on the Pacific Council's website (see www.pcouncil.org). It is recommended that you use a computer headset to listen to the meeting, but you may use your telephone for the audio-only portion of the meeting.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance March 2021 briefing materials and posted on the Pacific Council website at www.pcouncil.org no later than Friday, February 12, 2021.

A. Call to Order

1. Opening Remarks

2. Roll Call

3. Executive Director's Report

4. Approve Agenda

B. Open Comment Period

1. Comments on Non-Agenda Items

C. Administrative Matters

1. Report of the Office of National Marine Sanctuaries (ONMS)

2. Marine Planning Update

3. Legislative Matters

4. Approval of Council Meeting Record

5. Membership Appointments and Council Operating Procedures

6. Future Council Meeting Agenda and Workload Planning

D. Habitat Issues

1. Current Habitat Issues

E. Salmon Management

1. National Marine Fisheries Service Report

2. Reintroduction of Salmon Above Grand Coulee Dam

3. Review of 2020 Fisheries and Summary of 2021 Stock Forecasts

4. Identify Management Objectives and Preliminary Definition of 2021 Management Alternatives

5. Recommendations for 2021 Management Alternative Analysis

6. Further Direction for 2021 Management Alternatives

7. Further Direction for 2021 Management Alternatives

8. Adopt 2021 Management Alternatives for Public Review

9. Appoint Salmon Hearing Officers

F. Halibut Management

1. Annual International Pacific Halibut Commission (IPHC) Meeting Report

2. Incidental Catch Recommendations: Options for Salmon Troll and Final Action on Recommendations for Fixed Gear Sablefish Fisheries

G. Groundfish Management

1. National Marine Fisheries Service Report

2. Workload and New Management Measure Priorities

3. Pacific Whiting Utilization in the Mothership Sector

4. Inseason Adjustments—Final Action

5. Electronic Monitoring Program Update

H. Highly Migratory Species Management

1. National Marine Fisheries Service Report

2. Review of Essential Fish Habitat—Phase 2

3. Recommend International Management Activities

4. Deep-Set Buoy Gear Permit Clarifications

5. Biennial Harvest Specifications and Management Measures

I. Ecosystem Management

1. California Current Ecosystem and Integrated Ecosystem Assessment (IEA) Report and Science Review Topics

2. Climate and Communities Initiative Workshop Report

3. Fishery Ecosystem Plan (FEP) Five-Year Review—Final Action

Advisory Body Agendas

Advisory body agendas will include discussions of relevant issues that are on the Pacific Council agenda for this meeting and may also include issues that may be relevant to future Council meetings. Proposed advisory body agendas for this meeting will be available on the Pacific Council website www.pcouncil.org no later than Friday, February 12, 2021.

Schedule of Ancillary Meetings

Day 1—Tuesday, March 2, 2021

Coastal Pelagic Species Advisory Subpanel—8 a.m.

Coastal Pelagic Species Management Team—8 a.m.

Ecosystem Advisory Subpanel—8 a.m.

Ad Hoc Ecosystem Workgroup—8 a.m.

Habitat Committee—8 a.m.

Scientific and Statistical Committee—8 a.m.

Day 2—Wednesday, March 3, 2021

Coastal Pelagic Species Advisory Subpanel—8 a.m.

Coastal Pelagic Species Management Team—8 a.m.

Highly Migratory Species Advisory Subpanel—8 a.m.

Highly Migratory Species Management Team—8 a.m.

Ecosystem Advisory Subpanel—8 a.m.

Ad Hoc Ecosystem Workgroup—8 a.m.

Enforcement Consultants—8 a.m.

Groundfish Advisory Subpanel—8 a.m.

Groundfish Management Team—8 a.m.

Salmon Advisory Subpanel—8 a.m.

Salmon Technical Team—8 a.m.

Scientific and Statistical Committee—8 a.m.

Legislative Committee—10 a.m.

Day 3—Thursday, March 4, 2021

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Enforcement Consultants—As Necessary

Day 4—Friday, March 5, 2021

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Enforcement Consultants—As Necessary

* No Meetings Scheduled for Saturday, March 6 through Sunday, March 7, 2021

Day 5—Monday, March 8, 2021

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Enforcement Consultants—As Necessary

Day 6—Tuesday, March 9, 2021

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Necessary

Day 7—Wednesday, March 10, 2021

California State Delegation—7 a.m.

Oregon State Delegation—7 a.m.

Washington State Delegation—7 a.m.

Salmon Advisory Subpanel—8 a.m.

Salmon Technical Team—8 a.m.

Enforcement Consultants As Necessary

Day 8—Thursday, March 11, 2021

California State Delegation—7 a.m.

Oregon State Delegation—7 a.m.

Washington State Delegation—7 a.m.

Enforcement Consultants—As Necessary

Although non-emergency issues not contained in this agenda may come before the Pacific Council for discussion, those issues may not be the subject of formal Council action during these meetings. Council action will be restricted to those issues specifically listed in this notice and any issues arising after publication of this notice that require emergency action under Section 305(c) of the Magnuson-Stevens Fishery Conservation and Management Act, provided the public has been notified of the Pacific Council's intent to take final action to address the emergency.

Special Accommodations

Requests for sign language interpretation or other auxiliary aids should be directed to Mr. Kris Kleinschmidt at (503) 820-2412 at least 10 business days prior to the meeting date.

Authority: 16 U.S.C. 1801 et seq.

Dated: January 8, 2021.
Rey Israel Marquez,
Acting Deputy Director, Office of Sustainable Fisheries, National Marine Fisheries Service.

[FR Doc. 2021-00561 Filed 1-12-21; 8:45 am]

BILLING CODE 3510-22-P